DEPARTMENT OF STATE

[Public Notice: 11594]

In the Matter of the Designation of Revolutionary Armed Forces of Colombia—People's Army (and Other Aliases) as a Foreign Terrorist Organization

Based upon a review of the Administrative Record assembled in this matter, and in consultation with the Attorney General and the Secretary of the Treasury, I conclude that there is a sufficient factual basis to find that the relevant circumstances described in section 219 of the Immigration and Nationality Act, as amended (hereinafter “INA”) (8 U.S.C. 1189), exist with respect to Revolutionary Armed Forces of Colombia—People's Army, also known as FARC-EP, also known as Fuerzas Armadas Revolucionarias de Colombia—Ejercito del Pueblo, also known as FARC dissidents FARC-EP, also known as Revolutionary Armed Forces of Colombia dissidents FARC-EP, also known as FARC-D FARC-EP, also known as Grupo Armado Organizado Residual FARC-EP, also known as GAO-R FARC-EP, also known as Residual Organized Armed Group FARC-EP.

Therefore, I hereby designate the aforementioned organization and its aliases as a Foreign Terrorist Organization pursuant to section 219 of the INA.

This determination shall be published in the Federal Register.

Authority: 8 U.S.C. 1189.

Dated: November 18, 2021.
Antony J. Blinken,
Secretary of State.

[FR Doc. 2021-26091 Filed 11-30-21; 8:45 am]

BILLING CODE 4710-AD-P